DEPARTMENT OF COMMERCE

International Trade Administration

[A-557-816]

Certain Steel Nails From Malaysia: Final Results of the Antidumping Duty Administrative Review; 2017-2018

AGENCY: Enforcement and Compliance, International Trade Administration, Department of Commerce.

SUMMARY: The Department of Commerce (Commerce) finds that sales of certain steel nails (steel nails) from Malaysia were made at less than normal value during the period of review (POR) July 1, 2017 through June 30, 2018.

DATES: Applicable March 12, 2020.

FOR FURTHER INFORMATION CONTACT: Preston N. Cox, AD/CVD Operations, Office VI, Enforcement and Compliance, International Trade Administration, U.S. Department of Commerce, 1401 Constitution Avenue NW, Washington, DC, 20230; telephone: (202) 482-5041.

SUPPLEMENTARY INFORMATION:

Background

On September 11, 2019, Commerce published the Preliminary Results of the 2017-2018 antidumping duty administrative review of steel nails from Malaysia and invited interested parties to comment.¹ The review covers two producers/exporters of the subject merchandise: Inmax and Region.² On October 18, 2019, Commerce received case briefs from Inmax, Region, and Mid Continent Steel & Wire, Inc. (the petitioner).³ On October 22, 2019, we received a rebuttal brief from Region,⁴ and on October 23, 2019, we received a rebuttal brief from the petitioner.⁵ On January 2, 2020, Commerce extended the deadline for the final results of the review to no later than March 6, 2020.⁶

¹ Certain Steel Nails From Malaysia: Preliminary Results and Partial Rescission of Antidumping Duty Administrative Review; 2017-2018, 84 FR 47933 (September 11, 2019) (Preliminary Results), and accompanying Preliminary Decision Memorandum (PDM).

² Commerce has determined to collapse, and treat as a single entity, affiliates Inmax Sdn. Bhd. and Inmax Industries Sdn. Bhd. (collectively, Inmax), and Region International Co. Ltd. and Region System Sdn. Bhd. (collectively, Region) for these final results of review. For a discussion of this analysis, see Preliminary Results PDM.

³ See Inmax's Letter, “Steel Nails from Malaysia—Case Brief,” dated October 18, 2019; see also Region's Letter, “Steel Nails from Malaysia: Case Brief,” dated October 18, 2019; and Petitioner's Letter, “Certain Steel Nails from Malaysia: Case Brief,” dated October 18, 2019.

⁴ See Region's Letter, “Steel Nails from Malaysia: Case Brief,” dated October 22, 2019.

⁵ See Petitioner's Letter, “Certain Steel Nails from Malaysia: Rebuttal Brief,” dated October 23, 2019.

⁶ See Memorandum, “Certain Steel Nails from Malaysia: Extension of Deadline for Final Results of Antidumping Duty Administrative Review; 2017-2018,” dated January 2, 2020.

For a further discussion of events subsequent to the Preliminary Results, see the Issues and Decision Memorandum.⁷ Commerce conducted this administrative review in accordance with section 751 of the Tariff Act of 1930, as amended (the Act).

⁷ See Memorandum, “Issues and Decision Memorandum for the Final Results of the Administrative Review of the Antidumping Duty Order on Certain Steel Nails from Malaysia; 2017-2018,” dated concurrently with, and hereby adopted by, this notice (Issues and Decision Memorandum).

Scope of the Order

The products covered by the scope of the order are certain steel nails from Malaysia. For a complete description of the scope of the order, see the Issues and Decision Memorandum.⁸

⁸ See Issues and Decision Memorandum at 2-4.

Analysis of Comments Received

All issues raised in the case and rebuttal briefs are listed in the appendix to this notice and addressed in the Issues and Decision Memorandum. The Issues and Decision Memorandum is a public document and is on file electronically via Enforcement and Compliance's Antidumping and Countervailing Duty Centralized Electronic Service System (ACCESS). ACCESS is available to registered users at https://access.trade.gov, and it is available to all parties in the Central Records Unit, room B8024, of the main Commerce building. In addition, a complete version of the Issues and Decision Memorandum can be accessed directly at https://enforcement.trade.gov/frn/index.html. The signed Issues and Decision Memorandum and the electronic version of the Issues and Decision Memorandum are identical in content.

Changes Since the Preliminary Results

Based on a review of the record and comments received from interested parties regarding our Preliminary Results, we made certain changes to the preliminary margin calculations for Inmax and Region. The Issues and Decision Memorandum contains a description of these revisions.⁹

⁹ See Issues and Decision Memorandum at 4; see also Memorandum, “Analysis Memorandum for Inmax Sdn. Bhd. and Inmax Industries Sdn. Bhd. in the Final Results of the 2017/2018 Administrative Review of the Antidumping Duty Order on Certain Steel Nails from Malaysia,” dated concurrently with this notice; Memorandum, “Analysis Memorandum for Region International Co. Ltd. and Region System Sdn. Bhd. in the Final Results of the 2017/2018 Administrative Review of the Antidumping Duty Order on Certain Steel Nails from Malaysia,” dated concurrently with this notice.

Final Results of the Administrative Review

As a result of this review, Commerce determines that the following weighted-average dumping margin exists for the period July 1, 2017 through June 30, 2018:

Producer/Exporter | Weighted-average dumping margin (percent)
Inmax Sdn. Bhd. and Inmax Industries Sdn. Bhd | 0.00
Region International Co. Ltd. and Region System Sdn. Bhd | 3.12

Disclosure of Calculations

We intend to disclose the calculations performed for these final results within five days of the date of publication of this notice to parties in this proceeding, in accordance with 19 CFR 351.224(b).

Assessment Rates

Pursuant to section 751(a)(2)(C) of the Act, and 19 CFR 351.212(b)(1), Commerce has determined, and U.S. Customs and Border Protections (CBP) shall assess, antidumping duties on all appropriate entries of subject merchandise in accordance with the final results of this review. We will calculate importer-specific assessment rates on the basis of the ratio of the total amount of antidumping duties calculated for each importer's examined sales and the total entered value of the sales in accordance with 19 CFR 351.212(b)(1).

Commerce's “reseller policy” will apply to entries of subject merchandise during the POR produced by each respondent for which it did not know that the merchandise it sold to the intermediary (e.g., a reseller, trading company, or exporter) was destined for the United States. In such instances, we will instruct CBP to liquidate unreviewed entries at the all-others rate if there is no rate for the intermediate company(ies) involved in the transaction.¹⁰

¹⁰ For a full discussion of this practice, see Antidumping and Countervailing Duty Proceedings: Assessment of Antidumping Duties, 68 FR 23954 (May 6, 2003).

We intend to issue liquidation instructions to CBP 15 days after publication of the final results of this review.

Cash Deposit Requirements

The following cash deposit requirements will be effective for all shipments of the subject merchandise entered, or withdrawn from warehouse, for consumption on or after the publication date of the final results of this administrative review, as provided by section 751(a)(2) of the Act: (1) The cash deposit rate for the respondents noted above will be equal to the weighted-average dumping margin established in the final results of this review; (2) for merchandise exported by companies not covered in this review but covered in a prior segment of this proceeding, the cash deposit will continue to be the company-specific rate published for the most recently completed segment of this proceeding in which the company participated; (3) if the exporter is not a firm covered in this review or the original investigation, but the producer is, then the cash deposit rate will be the rate established for the most recently completed segment for the producer of the subject merchandise; and (4) the cash deposit rate for all other producers or exporters will continue to be 2.66 percent, the all-others rate established in the less-than-fair-value investigation.¹¹ These cash deposit requirements, when imposed, shall remain in effect until further notice.

¹¹ See Certain Steel Nails From Malaysia: Amended Final Determination of Sales at Less Than Fair Value, 80 FR 34370 (June 16, 2015).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order (APO)

This notice serves as the only reminder to parties subject to APO of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

This notice is issued and published in accordance with sections 751(a)(1) and 777(i)(1) of the Act.

Dated: March 6, 2020.
Jeffrey I. Kessler,
Assistant Secretary for Enforcement and Compliance.

Appendix

List of Topics Discussed in the Issues and Decision Memorandum

I. Summary

II. List of Issues

III. Background

IV. Scope of the Order

V. Changes From the Preliminary Results

VI. Discussion of the Issues

A. Inmax-Specific Issues

Comment 1: Adjustments to the Costs of Production

B. Region-Specific Issues

Comment 2: Difference Between Low and High Carbon Wire Rod Costs

Comment 3: Imputed Interest Expense Amount

Comment 4: Programming Errors

VII. Recommendation

[FR Doc. 2020-05065 Filed 3-11-20; 8:45 am]

BILLING CODE 3510-DS-P